ENVIRONMENTAL PROTECTION AGENCY

40 CFR Part 52

[EPA-R05-OAR-2019-0215; FRL-13010-03-R5]

Air Plan Approval; Michigan; Infrastructure SIP Requirements for the 2015 Ozone NAAQS; Michigan State Board Requirements; Withdrawal of Direct Final Rule

AGENCY: Environmental Protection Agency (EPA).

ACTION: Withdrawal of direct final rule.

SUMMARY: Due to the receipt of an adverse comment, the Environmental Protection Agency (EPA) is withdrawing the November 20, 2025, direct final rule approving an element of a State Implementation Plan (SIP) submission from Michigan regarding the infrastructure requirements of section 110 of the Clean Air Act (CAA) for the 2015 ozone National Ambient Air Quality Standards (NAAQS).

DATES: The direct final rule published at 90 FR 52238 on November 20, 2025, is withdrawn as of January 6, 2026.

FOR FURTHER INFORMATION CONTACT: Kelsey Foss, Air and Radiation Division (AR-18J), Environmental Protection Agency, Region 5, 77 West Jackson Boulevard, Chicago, Illinois 60604, (312) 886-6008, foss.kelsey@epa.gov. The EPA Region 5 office is open from 8:30 a.m. to 4:30 p.m., Monday through Friday, excluding Federal holidays.

SUPPLEMENTARY INFORMATION: In the direct final rule, EPA stated that if adverse comments were submitted by December 22, 2025, the rule would be withdrawn and not take effect. On December 4, 2025, EPA received a comment. EPA believes this comment is adverse and, therefore, EPA is withdrawing the direct final rule. EPA will address the comment in a subsequent final action based upon the proposed action also published on November 20, 2025 (90 FR 52311). EPA will not institute a second comment period on this action.

List of Subjects in 40 CFR Part 52

Environmental protection, Air pollution control, Incorporation by reference, Intergovernmental relations, Nitrogen oxides, Ozone, Volatile organic compounds.

Authority: 42 U.S.C. 7401 et seq.

Dated: December 16, 2025.
Anne Vogel,
Regional Administrator, Region 5.

PART 52—APPROVAL AND PROMULGATION OF IMPLEMENTATION PLANS

Accordingly, the amendment to 40 CFR 52.1170 published in the Federal Register on November 20, 2025, (90 FR 52238) on pages 52240-52241 is withdrawn as of January 6, 2026.

[FR Doc. 2026-00004 Filed 1-5-26; 8:45 am]

BILLING CODE 6560-50-P